DEPARTMENT OF TRANSPORTATION

Federal Highway Administration

Notice of Final Federal Agency Actions on an Operational Improvement Project in Santa Cruz County, CA

AGENCY: Federal Highway Administration (FHWA), DOT.

ACTION: Notice of Limitation on Claims for Judicial Review of Actions by FHWA, pursuant to 23 U.S.C. 327.

SUMMARY: The FHWA is issuing this notice to announce actions taken by FHWA and other Federal agencies that are final within the meaning of 23 U.S.C. Section 139(l)(1). The actions relate to the Highway 1 Soquel to Morrissey Auxiliary Lanes Project in the City of Santa Cruz, and Santa Cruz County, California. The project would include the following: Adding auxiliary lanes to Highway 1 between the interchanges of Soquel Avenue and Morrissey Boulevard for a distance of less than one mile; replacing the La Fonda overcrossing while providing wider sidewalks and new bike lanes; providing sidewalk improvements at Rooney Street and Morrissey Boulevard west of Pacheco Avenue; and installing a raised crosswalk at the south end of the La Fonda Bridge near the entrance to Harbor High School.

DATES: By this notice, the FHWA is advising the public of final agency actions subject to 23 U.S.C. 139(l)(1). A claim seeking judicial review of the Federal agency actions on the project will be barred unless the claim is filed on or before April 26, 2010. If the Federal law that authorizes judicial review of a claim provides a time period of less than 180 days for filing such claim, then that shorter time period still applies.

FOR FURTHER INFORMATION CONTACT: For FHWA: Sheila Masters, Transportation Engineer, 650 Capitol Mall, Suite 4-100, Sacramento, California, 95814; phone: (916) 498-5043; fax (916) 498-5008;e-mail sheila.masters@dot.gov; regular office hours 8 AM to 5 PM. For Caltrans: G. William “Trais” Norris, III Senior Environmental Planner, 2015 E. Shields Ave., Suite 100, Fresno, CA 93726-5428; phone: (559) 243-8178; e-mail: trais_norris@dot.ca.gov or fax; (559) 243-8215; regular office hours 8 a.m. to 5 p.m., closed the first, second, and third Fridays of each month.

SUPPLEMENTARY INFORMATION: Notice is hereby given that the Federal Highway Administration (FHWA) has taken final agency actions subject to 23 U.S.C. 139(l)(1) by issuing licenses, permits, and approvals for the following project in the State of California. The purpose of the Soquel to Morrissey Auxiliary Lanes Project is to improve traffic conditions for lane changes and merges on Highway 1 between Soquel Avenue and Morrissey Boulevard and improve pedestrian and bicycle access and safety. This project is subject to federal and state environmental review requirements because state and federal funds are proposed for use in this project. Project documentation, therefore, was prepared in compliance with both the National Environmental Policy Act (NEPA) and the California Environmental Quality Act (CEQA). The actions by the Federal agencies, and the laws under which such actions were taken, are described in the Final Environmental Assessment (EA)/Finding of No Significant Impact (FONSI) for the project, approved on September 18, 2009, and in other documents in the FHWA administrative records. The EA/FONSI and other documents are available by contacting FHWA or Caltrans at the addresses provided above. The FHWA EA/FONSI can be viewed online at http://www.dot.ca.gov/dist05/projects/soquel/index.htm and at these public locations in the project area: Central Library, 224 Church Street, Santa Cruz, CA 95060; Branciforte Library, 230 Gault Street, Santa Cruz, CA 95062; Live Oak Library, 2380 Portola Drive, Santa Cruz, CA 95062; Santa Cruz County Regional Transportation Commission office at 1523 Pacific Avenue, Santa Cruz, CA 95060.

This notice applies to all Federal agency decisions as of the issuance date of this notice and all laws under which such actions were taken, including but not limited to:

1. Council on Environmental Quality regulations

2. National Environmental Policy Act (NEPA)

3. Department of Transportation Act of 1966

4. Federal Aid Highway Act of 1970

5. Clean Air Act Amendments of 1990

6. Clean Water Acts of 1977 and 1987

7. Endangered Species Act of 1973

8. Migratory Bird Treaty Act

9. Title VI of the Civil Rights Act of 1964

10. Uniform Relocation Assistance and Real Property Acquisition Act of 1970

11. National Historic Preservation Act of 1966

12. Historic Sites Act of 1935

13. Executive Order 11990, Protection of Wetlands

14. Executive Order 13112, Invasive Species

15. Executive Order 11988, Floodplain Management

16. Executive Order 12898, Environmental Justice

Authority: 23 U.S.C. 139(l)(1).

Issued on: October 21, 2009.
Karen Bobo,
Director, Local Agency Programs, Federal Highway Administration, Sacramento, California.

[FR Doc. E9-25778 Filed 10-26-09; 8:45 am]

BILLING CODE 4910-RY-P